DEPARTMENT OF DEFENSE

Office of the Secretary

[Docket ID DOD-2019-OS-0068]

Privacy Act of 1974; System of Records

AGENCY: Defense Logistics Agency, DoD.

ACTION: Rescindment of a system of records notice.

SUMMARY: The Defense Logistics Agency (DLA) is rescinding a system of records, S240.28 DoD, Case Adjudication Tracking System (CATS). This system of records recorded and documented personnel security adjudicative actions within the Department, federal agencies, and for DoD contractors. The system also provided a status of investigative and adjudicative updates to security officers, managers and other authorized users. With the transfer of responsibility for CATS from DLA to the Defense Manpower Data Center (DMDC), and subsequent publication of the DMDC 24 DoD, Defense Information System for Security (DISS), system of records notice, the DLA CATS system of records is no longer in use as it is subsumed within the DISS system of records. All records previously covered by the DLA CATS system of records are now covered by the DISS system of records.

DATES: This notice is applicable upon publication.

FOR FURTHER INFORMATION CONTACT: To submit general questions about the rescinded system, please contact Mr. Lewis Oleinick, Chief FOIA and Privacy Act Officer, Defense Logistics Agency, Office of General Counsel, ATTN: DGA, 8725 John J. Kingman Road, Suite 1644, Fort Belvoir, VA 22060-6221, or by phone at (703) 767-6193.

SUPPLEMENTARY INFORMATION: On October 2, 2014, the Deputy Secretary of Defense signed Memorandum OSD010147, directing the transfer of the Defense Travel System (DTS) and the Defense Information System for Security (DISS) programs from DLA to the Defense Manpower Data Center (DMDC), a component of the Defense Human Resources Agency (DHRA). On July 27, 2015, DHRA and DLA signed a Memorandum of Agreement transferring operational and budgetary responsibility from DLA to DHRA. On June 15, 2016, the Office of the Secretary of Defense, DoD, published a new system of records, DMDC 24 DoD, Defense Information System for Security (DISS) (81 FR 39032). The DISS system of records is comprised of the Case Adjudication Tracking System (CATS) and the Joint Verification System (JVS). The DLA CATS system of records has been subsumed within the DISS system of records and all records previously covered by the DLA CATS system of records are now covered by the DISS system of records. The Defense Logistics Agency systems of records notices subject to the Privacy Act of 1974 (5 U.S.C. 552a), as amended, have been published in the Federal Register and are available from the address in FOR FURTHER INFORMATION CONTACT or at the Defense Privacy, Civil Liberties and Transparency Division website at http://dpcld.defense.gov/Privacy/SORNs/.

The proposed systems reports, as required by the Privacy Act of 1974, as amended, were submitted on January 15, 2019, to the House Committee on Oversight and Reform, the Senate Committee on Homeland Security and Governmental Affairs, and on February 5, 2019, to the Office of Management and Budget (OMB) pursuant to Section 6 to OMB Circular No. A-108, “Federal Agency Responsibilities for Review, Reporting, and Publication under the Privacy Act,” revised December 23, 2016 (December 23, 2016, 81 FR 94424).

SYSTEM NAME AND NUMBER

Case Adjudication Tracking System (CATS), S240.28 DoD

HISTORY:

July 09, 2015, 80 FR 39418

Dated: June 13, 2019.
Aaron T. Siegel,
Alternate OSD Federal Register Liaison Officer, Department of Defense.

[FR Doc. 2019-12945 Filed 6-18-19; 8:45 am]

BILLING CODE 5001-06-P